DEPARTMENT OF JUSTICE

Antitrust Division

Notice Pursuant to the National Cooperative Research and Production Act of 1993—Water Quality Association

Notice is hereby given that, on September 15, 2004, pursuant to section 6(b) of the National Cooperative Research and Production Act of 1993, 15 U.S.C. 4301 et seq. (“the Act”), Water Quality Association (“WQA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Water Quality Association, Lisle, IL. The nature and scope of WQA's standards development activities are: planning, developing, establishing and coordinating voluntary harmonized consensus standards in the water treatment industry, either itself or through cooperative standards making activities with other not for profit standards development organizations.

Dorothy B. Fountain,
Deputy Director of Operations, Antitrust Division.

[FR Doc. 04-23528 Filed 10-20-04; 8:45 am]

BILLING CODE 4410-11-M